DEPARTMENT OF HEALTH AND HUMAN SERVICES

Administration for Children and Families

[OMB No. 0970-0215]

Submission for OMB Review; Tribal TANF Data Report, TANF Annual Report, and Reasonable Cause/Corrective Action Documentation Process

AGENCY: Office of Family Assistance, Administration for Children and Families, HHS.

ACTION: Request for public comment.

SUMMARY: The Administration for Children and Families (ACF) is requesting a 3-year extension of the form OFA-0084: Tribal TANF Data Report, TANF Annual Report, and Reasonable Cause/Corrective Action Documentation Process (OMB #0970-0215, expiration 4/30/2022). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: 42 U.S.C. 612 (section 412 of the Social Security Act as amended by Pub. L. 104-193, the Personal Responsibility and Work Opportunity Reconciliation Act of 1996), mandates that federally recognized Indian tribes with an approved Tribal TANF program collect and submit to the Secretary of the Department of Health and Human Services data on the recipients served by the tribes' programs. This information includes both aggregated and disaggregated data on case characteristics and individual characteristics. In addition, tribes that are subject to a penalty are allowed to provide reasonable cause justifications as to why a penalty should not be imposed or may develop and implement corrective compliance procedures to eliminate the source of the penalty. Finally, there is an annual report that requires the tribes to describe program characteristics. All of the above requirements are currently approved by OMB, and ACF is simply proposing to extend them without any changes.

Respondents: Native American tribes and tribal organizations operating Tribal TANF programs.

Annual Burden Estimates
Instrument | Total number of respondents | Annual number of responses per respondent | Average burden hours per response | Annual burden hours
Final Tribal TANF Data Report | 75 | 4 | 451 | 135,300
Tribal TANF Annual Report | 75 | 1 | 40 | 3,000
Tribal TANF Reasonable Cause/Corrective | 10 | 1 | 60 | 600

Estimated Total Annual Burden Hours: 138,900.

Authority: 42 U.S.C. 612, 45 CFR part 286.

Mary B. Jones,
ACF/OPRE Certifying Officer.

[FR Doc. 2022-08498 Filed 4-20-22; 8:45 am]

BILLING CODE 4184-36-P